DEPARTMENT OF AGRICULTURE

Submission for OMB Review; Comment Request

April 18, 2012.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Economic Research Service

Title: Experimental Economic Research.

OMB Control Number: 0536-NEW.

Summary of Collection: The primary function of the Economic Research Service (ERS) is to provide economic and social science research, analysis, and to disseminate data under the authority of 7 U.S.C. 2204 and Section 17 of 7 U.S.C. 2026. ERS is requesting a generic clearance in order to respond quickly to emerging issues and data collection needs.

Need and Use of the Information: Information obtained from randomized comparison studies (lab and field techniques) will be used to develop and calibrate models of behavior. ERS uses behavioral models to estimate a variety of policy outcomes for instance the level of farmer participation in voluntary conservation programs under alternative contract terms or changes in the nutritional quality of meals chosen when healthy items are displayed more prominently. The quality of research that ERS can provide to its stakeholders will be decreased if ERS cannot conduct the requested studies or if studies are conducted less frequently.

Description of Respondents: Individuals or households.

Number of Respondents: 5,400.

Frequency of Responses: Reporting: On occasion.

Total Burden Hours: 6,900.

Ruth Brown,
Departmental Information Collection Clearance Officer

[FR Doc. 2012-9773 Filed 4-23-12; 8:45 am]

BILLING CODE 3410-18-P